DEPARTMENT OF AGRICULTURE

Natural Resources Conservation Service

Notice of Meeting of the Agricultural Air Quality Task Force

AGENCY: Natural Resources Conservation Service (NRCS), USDA.

ACTION: Notice of meeting.

SUMMARY: The Agricultural Air Quality Task Force (AAQTF) will meet to continue discussions on critical air quality issues in relation to agriculture. Special emphasis will be placed on obtaining a greater understanding about the relationship between agricultural production and air quality.

DATES: The meeting will convene on Wednesday, June 22, 2005, from 8 a.m. to 5 p.m., and will resume on Thursday, June 23, 2005, from 8 a.m. to 4:30 p.m. Individuals with written materials, and those who have requests to make oral presentations, should contact NRCS, at the address on the following page, on or before June 8, 2005.

ADDRESSES: The meeting will be held at the Ambassador Hotel, 3100 I-40 West, Amarillo, Texas; telephone: (806) 358-6161. Written material and requests to make oral presentations should be sent to Elvis L. Graves, Acting Designated Federal Official, NRCS, 400 East Northwood Street, Suite 410, Greensboro, North Carolina 27401.

FOR FURTHER INFORMATION, CONTACT: Questions or comments should be directed to Elvis L. Graves, Acting Designated Federal Official; telephone: (336) 370-3347, extension 421; fax: (336) 370-3376; email: elvis.graves@gnb.usda.gov.

SUPPLEMENTARY INFORMATION: Notice of this meeting is given under the Federal Advisory Committee Act, 5 U.S.C. App. 2. Additional information concerning the AAQTF, may be found on the World Wide Web at http://aaqtf.tamu.edu/.

Draft Agenda of the June 22-23, 2005, Meeting of the AAQTF

A. Welcome to Amarillo, Texas

1. Local and NRCS officials

B. Discussion of Minutes from Meeting of Previous Task Force

C. Discussion of Documents to be Approved by the End of the Meeting and Subsequently Presented to Secretary Johanns

D. Subcommittee Presentations

1. Emerging Issues Committee Report

2. Research Committee Report

3. Policy Committee Report

4. Education/Technology Transfer Committee Report

E. Local Research Presentations

1. Texas A&M University—Field Research

F. Regional Haze Rule—Rural Particle and Ammonia Monitoring Programs

G. Environmental Protection Agency Update

H. Pesticide Volatile Organic Compounds

I. Next Meeting, Time and Place

J. Public Input

(Time will be reserved before lunch and at the close of each daily session to receive public comment. Individual presentations will be limited to 5 minutes).

Procedural

This meeting is open to the public. At the discretion of the Chair, members of the public may give oral presentations during the meeting. Those persons wishing to make oral presentations should notify Mr. Graves no later than June 8, 2005. A person submitting written material that would like a copy distributed to each member of the committee in advance of the meeting should submit 30 copies to Mr. Graves no later than June 8, 2005.

Information on Services for Individuals With Disabilities

For information on facilities or services for individuals with disabilities, or to request special assistance at the meeting, please contact Mr. Graves. The Department of Agriculture (USDA) prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed in Washington, DC on May 4, 2005.
Bruce I. Knight,
Chief.

[FR Doc. 05-9845 Filed 5-17-05; 8:45 am]

BILLING CODE 3410-16-P